FEDERAL MARITIME COMMISSION

[Docket No. 22-34]

SeaFair USA LLC, Complainant v. Sterling Container Line Limited and Atlantic Forwarding Ltd., Respondents; Notice of Filing of Complaint and Assignment

Served: December 15, 2022.

Notice is given that a complaint has been filed with the Federal Maritime Commission (Commission) by SeaFair USA, LLC., hereinafter “Complainant,” against Sterling Container Line Limited and Atlantic Forwarding Ltd., (hereinafter “Respondents.”) Complainant states that it is a Florida limited liability company with a principal place of business in Florida.

Complainant identifies the Sterling Container Line Limited is a foreign non-vessel-operating common carrier organized under the laws of Hong Kong with a principal place of business in Hong Kong. Complainant identifies Atlantic Forwarding Ltd. is the parent company and agent of Sterling Container Line Limited and an ocean transportation intermediary organized under the laws of Switzerland with a principal place of business in Switzerland.

Complainant alleges that Respondent violated 46 U.S.C. 41102(a), 41102(c), 41104(a)(4)(A), and 41104(a)(2)(A) regarding its practices and the billing and payment of charges on the shipments of cargo, including the provision of services in the liner trade that are not in accordance with the rates, charges, classifications, rules, and practices contained in its tariff. An answer to the complaint is due to be filed with the Commission within twenty-five (25) days after the date of service. The full text of the complaint can be found in the Commission's Electronic Reading Room at https://www2.fmc.gov/readingroom/proceeding/22-34/.

This proceeding has been assigned to Office of Administrative Law Judges. The initial decision of the presiding officer in this proceeding shall be issued by December 15, 2023, and the final decision of the Commission shall be issued by July 1, 2024.

William Cody,
Secretary.

[FR Doc. 2022-27638 Filed 12-20-22; 8:45 am]

BILLING CODE 6730-02-P